SMALL BUSINESS ADMINISTRATION

Region III Advisory Council Meeting; Public Meeting

The South Atlantic States, Regulatory Fairness Board will hold a public hearing on June 22, 2000, at Morgan State University, Main Lecture Hall, Schaefer Building, located at 5200 Perring Parkway, Room 241, Baltimore, Maryland to receive comments and testimony from small businesses and representatives of trade associations concerning federal regulatory enforcement or compliance activities. Transcripts of these proceedings will be posted on the Internet. These transcripts are subject only to limited review by the National Ombudsman. For further information, call Elestine Harvey (312) 353-0880.

Bettie Baca,
Counselor to the Administrator/Public Liaison.

[FR Doc. 00-12691 Filed 5-19-00; 8:45 am]

BILLING CODE 8025-01-P